DEPARTMENT OF THE INTERIOR

Bureau of Indian Affairs

Paperwork Reduction Act Requests, Submission to OMB

AGENCY: Bureau of Indian Affairs, Interior.

ACTION: Notice.

SUMMARY: This notice announces that the Information Collection Requests for the Bureau of Indian Affairs Higher Education Grant Program Annual Report Form, OMB No. 1076-0106, and the Higher Education Grant Program Application, OMB No. 1076-0101 require reinstatement. The information collection requirements, with no appreciable changes, described below are being submitted to the Office of Management and Budget (OMB) for review as required by the Paperwork Reduction Act of 1995.

DATES: Submit your comments and suggestions on or before October 26, 2001.

ADDRESSES: Written comments should be sent directly to Office of Information and Regulatory Affairs, Office of Management and Budget, 725 17th Street, NW., Washington, DC 20503, Attention: Desk Officer for Department of the Interior. Please submit copies of any comments to Garry R. Martin, Bureau of Indian Affairs, Office of Indian Education Programs, 1849 C Street NW., Washington, DC 20240-0001, or hand deliver to Room 3526-MIB at the above address.

FOR FURTHER INFORMATION CONTACT: Copies of the information collection may be obtained by contacting Garry R. Martin, 202-208-3478. Comments can be reviewed at the location listed in the ADDRESSES section between the hours of 8 a.m. to 4:30 p.m. Monday through Friday.

SUPPLEMENTARY INFORMATION:

Abstract

The information collection is necessary to request applications for this program and to assess the need for this program as required by 25 CFR 40. One comment was received during the comment period for the 60-day Federal Register notice (66 FR 21174). The commenter believes that this documentation is critical to support their future requests for increased funding of student grants.

Comments

Comments are invited on:

(a) Whether these information collections are necessary for the proper performance of the functions of the agency, including whether the information will have practical utility;

(b) The accuracy of the agency's estimate of the burden (hours and cost) of the collection of information, including the validity of the methodology and assumptions used;

(c) Ways to enhance the quality, utility and clarity of the information to be collected; and

(d) Ways to minimize the burden of the collection of the information on the respondents, including through the use of automated collection techniques or other forms of information technology.

Please note that an agency may not conduct or sponsor, and a person is not required to respond to, a collection of information unless it displays a currently valid OMB control number. Each proposed information collection contains the following: Type of Review requested, e.g., new, revision, extension, reinstatement, existing; Title; Summary of collection; Description of the need for, and proposed use of, the information; respondents and frequency of collection; Reporting and/or Recordkeeping burden.

Type of Review: Reinstatement.

Title: Higher Education Grant Program Annual Report Form.

This is a compilation of data from tribes, tribal organizations that participate in the Bureau of Indian Affairs Higher Education Grant Program. The information is used to account for the funds appropriated for this program.

OMB approval number: 1076-0106.

Frequency: Annually.

Description of respondents: Tribes, Tribal Organizations.

Estimated completion time: 3 hours.

Number of Annual responses: 125.

Annual Burden hours: 375 hours.

Type of Review: Reinstatement.

Title: Higher Education Grant Program Application.

The information is used by the tribe or tribal organization to determine the eligibility of the respondents for this program.

OMB approval number: 1076-0101.

Frequency: Annually.

Description of respondents: Eligible American Indian and Alaska Native students.

Estimated completion time: 1 hour.

Number of Annual responses: 14,000.

Annual Burden hours: 14,000 total hours.

Dated: September 4, 2001.
Neal A. McCaleb,
Assistant Secretary—Indian Affairs.

[FR Doc. 01-24035 Filed 9-25-01; 8:45 am]

BILLING CODE 4310-02-P